DEPARTMENT OF COMMERCE

National Oceanic and Atmospheric Administration

DEPARTMENT OF THE INTERIOR

Fish and Wildlife Service

[I.D. 101602C]

Notice of Availability of a Draft Environmental Impact Statement for an Incidental Take Permit Application and Habitat Conservation Plan

AGENCIES: Fish and Wildlife Service, Interior; National Marine Fisheries Service, NOAA, Commerce.

ACTION: Notice of application and availability for public comment.

SUMMARY: This document advises the public that J.L. Storedahl & Sons, Inc. (Storedahl), has submitted an application to the Fish and Wildlife Service and the National Marine Fisheries Service (together, the Services) for incidental take permits (permits) pursuant to the Endangered Species Act of 1973, as amended (Act). The permit application includes: (1) the proposed Habitat Conservation Plan (HCP); and, (2) the proposed Implementing Agreement. The Services also announce the availability of a draft Environmental Impact Statement (DEIS) for the permit application.

This notice is provided pursuant to section 10(a) of the Act, and National Environmental Policy Act regulations. The Services are furnishing this notice in order to allow other agencies and the public an opportunity to review and comment on these documents. All comments received will become part of the public record and will be available for review pursuant to section 10(c) of the Act.

DATES: Written comments on the permit application, DEIS, HCP, and Implementing Agreement must be received from interested parties no later than January 21, 2003.

ADDRESSES: See SUPPLEMENTARY INFORMATION section for addresses where hard-copies of the Plan and associated documents may be obtained or reviewed. Requests for documents on CD ROM should be made by calling the U.S. Fish and Wildlife Service at (360) 534-9330. The documents are also available electronically on the World Wide Web at http://www.r1.fws.gov/.

Comments and requests for information should be sent to Tim Romanski, Storedahl DEIS/HCP Comments, U.S. Fish and Wildlife Service, 510 Desmond Drive, S.E., Suite 102, Lacey, Washington 98503-1263, telephone (360) 753-5823, facsimile (360) 753-9518. Comments and materials received will be available for public inspection, by appointment, during normal business hours at the above address.

FOR FURTHER INFORMATION CONTACT: Tim Romanski, Project Manager, U.S. Fish and Wildlife Service, (360) 753-5823; or Laura Hamilton, Project Manager, National Marine Fisheries Service, (360) 753-5820.

SUPPLEMENTARY INFORMATION: Hard bound copies are available for viewing, or partial or complete duplication, at the following libraries: Woodland Community Library, 770 Park St, Woodland, WA (360) 225-2115; Battle Ground Community Library, 12 W Main St. Battle Ground, WA (360) 687-2322; Ridgefield Community Library, 210 N Main Ave, Ridgefield, WA (350)887-8281; Vancouver Community Library, 1007 E Mill Plain Blvd, Vancouver, WA (360) 695-1566; and, Olympia Timberland Library, Reference Desk, 313 8th Avenue SE, Olympia, WA (360)352-0595.

Background

As required by section 10(a)(2)(B) of the Act, Storedahl has also prepared an HCP designed to minimize and mitigate any such take of endangered or threatened species. The permit application is related to gravel mining and reclamation activities on approximately 300 acres of Storedahl-owned lands located in Clark County, Washington. The proposed permits would authorize the take of the following threatened species incidental to otherwise lawful activities: steelhead (Oncorhynchus mykiss), bull trout (Salvelinus confluentus), chum salmon (Oncorhynchus keta), and chinook salmon (Oncorhynchus tshawytscha). Storedahl is also seeking coverage for 5 currently unlisted species (including anadromous and resident fish) under specific provisions of the permits, should these species be listed in the future. Section 9 of the Endangered Species Act and Federal regulations prohibit the “taking” of a species listed as endangered or threatened. The term take is defined under the Act to mean harass, harm, pursue, hunt, shoot, wound, kill, trap, capture, or collect, or to attempt to engage in any such conduct. Harm is defined to include significant habitat modification or degradation where it actually kills or injures wildlife by significantly impairing essential behavioral patterns, including breeding, feeding, and sheltering (50 CFR 17.3, 50 CFR 222.102).

The Services may issue permits, under limited circumstances, to take listed species incidental to, and not the purpose of, otherwise lawful activities. U.S. Fish and Wildlife Service regulations governing permits for endangered species are promulgated in 50 CFR 17.22; and, regulations governing permits for threatened species are promulgated in 50 CFR 17.32. National Marine Fisheries Service regulations governing permits for threatened and endangered species are promulgated at 50 CFR 222.307.

Storedahl owns and operates a gravel processing plant in rural Clark County, Washington, near the East Fork Lewis River. This site is known as the Daybreak Mine. It is located approximately 4 miles (6.4 km) southeast of the town of LaCenter, and approximately 1 mile (1.6 km) downstream of Clark County's Daybreak Park. The 300-acre site is composed of two parcels. One parcel is approximately 80 acres and consists of 5 pits, which were mined intermittently, under different owners, from 1968 to 1995. No active extraction of gravel from this site is now occurring. Current operations are limited to processing and distributing sand and gravel that is mined off-site. Processing involves separating the sand from the gravel, and separating the gravel into different size classes. The second parcel is located immediately to the north and east of this previously mined area, on a low terrace above the 100-year floodplain. This 178-acre parcel contains high quality sand and gravel deposits that have not been mined. Current operations on this parcel include cattle grazing and hay and crop production.

Storedahl proposes to mine the sand and gravel deposits from 101 acres of this 178-acre parcel, and continue processing operations at the other parcel. These operations would continue until sand and gravel extraction at the 178-acre parcel is complete, projected to be 15 years or less. Concurrent with, and following sand and gravel extraction, Storedahl would implement a site reclamation plan.

The proposed mining, processing, and reclamation activities have the potential to affect fish and wildlife associated with the East Fork Lewis River ecosystem. The majority of the gravel to be mined is located just below the water table in a shallow aquifer, and the proposed gravel mining and reclamation plan would create a series of open water ponds and emergent wetlands. The created ponds and wetlands will drain via a controlled outlet to a small creek (Dean Creek) and then to the East Fork Lewis River. The shallow aquifer is connected to the East Fork Lewis River. The proposed mining and reclamation plan has the potential to affect a suite of habitat conditions, including, but not limited to, water quality, channel morphology, riparian function, off-channel connections, and the conversion of pastureland to forest, wetland, and open water habitats. Some of these effects could involve species subject to protection under the Endangered Species Act.

Section 10 of the Act, as previously stated, contains provisions for the issuance of permits to non-Federal land owners for the take of endangered and threatened species. Any such take must be incidental to otherwise lawful activities, and must not appreciably reduce the likelihood of the survival and recovery of the species in the wild. As required under the permit application process, Storedahl prepared and submitted to the Services for approval an HCP containing a strategy for minimizing and mitigating take associated with the proposed activities to the maximum extent practicable. Storedahl's HCP contains a funding strategy, which is also required under the permit application process.

Activities proposed for permit coverage include the following.

(1) Gravel mining and related activities in the terrace above the 100-year floodplain, with potential impacts on groundwater quality and quantity, potential impacts on surface water quality and quantity, potential influence on channel migration, and potential access to gravel ponds by anadromous salmonids.

(2) Gravel processing.

(3) Site reclamation activities including, but not limited to the creation of emergent and open water wetland habitat, riparian and valley-bottom forest restoration, habitat rehabilitation, riparian irrigation, low flow augmentation to Dean Creek, and construction of facilities (such as trails and parking lots) to support future incorporation of the site into the open space and greenbelt reserve.

(4) Monitoring and maintenance of conservation measures. The duration of the proposed permits and HCP is 25 years, though some aspects of the conservation measures associated with the proposed HCP would continue in-perpetuity.

The Services formally initiated an environmental review of the project through publication of a notice of intent to prepare an environmental impact statement (EIS) in the Federal Register on December 27, 1999 (64 FR 72318). That document also announced a 30-day public scoping period during which interested parties were invited to provide written comments expressing their issues or concerns relating to the proposal. Following this announcement and public scoping, the DEIS was prepared.

The DEIS compares Storedahl's proposal against two no-action scenarios. Differences between the no-action scenarios and the proposed action are considered to be the effects that would occur if the proposed action were implemented. One additional alternative to Storedahl's proposal and the two no-action scenarios is also analyzed. These analyses, consisting of the comparisons and the expected effects, are contained in the DEIS.

Alternatives considered in the analysis include the following.

(1) Alternative A-1: Partition the property into 20-acre parcels and sell as rural residential/agricultural tracts - No Action.

(2) Alternative A-2: Mine the property without permits and avoid take - No Action.

(3) Alternative B: Mine and undertake habitat enhancement and reclamation activity at the Daybreak property implementing the May 2001 public review draft HCP - Preferred Alternative.

(4) Alternative C: Mine and undertake habitat enhancement and reclamation activity at the Daybreak property following a design and conservation measures presented to the Services in July, 2000.

One alternative was considered during scoping but not analyzed in detail. That alternative is essentially a combination of the two no-action scenarios listed above, Alternatives A-1 and A-2. That alternative would have involved mining on the portion of the property currently zoned for mining, with subsequent partitioning and sale of the mined and unmined property for low-density rural residential development. This was dismissed from detailed analysis because the vast majority of marketable sand and gravel on the portion of the property currently zoned for mining has already been extracted, rendering the alternative not feasible.

This notice is provided pursuant to section 10(a) of the Act, and National Environmental Policy Act regulations. The Services will evaluate the application, associated documents, and comments submitted thereon to determine whether the application meets the requirements of the Act and National Environmental Policy Act. If it is determined that the requirements are met, permits will be issued for the incidental take of listed species. The final permit decisions will be made no sooner than 30 days after the publication of the Final EIS.

Dated: October 28, 2002.
Rowan W. Gould,
Deputy Regional Director, Fish and Wildlife Service, Region 1, Portland, Oregon

Dated: November 19, 2002.
Margaret Lorenz,
Acting Chief, Endangered Species Division, Office of Protected Resources, National Marine Fisheries Service

[FR Doc. 02-29778 Filed 11-21-02; 8:45 am]

BILLING CODES 3510-22-S, 4310-55-S